DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing an update to the identifying information of one person currently included on OFAC's Specially Designated Nationals and Blocked Persons List (SDN List). All property and interests in property subject to U.S. jurisdiction of this person remain blocked, and U.S. persons are generally prohibited from engaging in transactions with them.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Actions

On June 28, 2022, OFAC updated the entry on the SDN List for the following person, whose property and interests in property subject to U.S. jurisdiction continue to be blocked under the relevant sanctions authority listed below.

LOPEZ DELGADO, Ruy, Carretera Masaya, Km 6.5, Plaza 800 Mts Sur Lomas Santo Domingo, Casa #6, Managua, Nicaragua; DOB 30 Jun 1949; POB Managua, Nicaragua; nationality Nicaragua; Gender Male; Passport C01850896 (Nicaragua) issued 11 May 2015 expires 11 May 2025; National ID No. 0013006490003J (Nicaragua) (individual) [NICARAGUA].

-to-

DELGADO LOPEZ, Ruy, Carretera Masaya, Km 6.5, Plaza 800 Mts Sur Lomas Santo Domingo, Casa #6, Managua, Nicaragua; DOB 30 Jun 1949; POB Managua, Nicaragua; nationality Nicaragua; Gender Male; Passport C01850896 (Nicaragua) issued 11 May 2015 expires 11 May 2025; National ID No. 0013006490003J (Nicaragua) (individual) [NICARAGUA].

Designated pursuant to section 1(a)(iii) of Executive Order 13851 of November 27, 2018, “Blocking Property of Certain Persons Contributing to the Situation in Nicaragua,” for being an official of the Government of Nicaragua or having served as an official of the Government of Nicaragua at any time on or after January 10, 2007.

Dated: June 28, 2022.
Andrea M. Gacki,
Director, Office of Foreign Assets Control, U.S. Department of the Treasury.

[FR Doc. 2022-14105 Filed 6-30-22; 8:45 am]

BILLING CODE 4810-AL-P